DEPARTMENT OF HOMELAND SECURITY

U.S. Customs and Border Protection

Agency Information Collection Activities: Application—Alternative Inspection Services (SENTRI Application and FAST Commercial Driver Application)

AGENCY: U.S. Customs and Border Protection, Department of Homeland Security.

ACTION: 60-Day Notice and request for comments; Extension of an existing collection of information: 1651-0121.

SUMMARY: As part of its continuing effort to reduce paperwork and respondent burden, U.S. Customs and Border (CBP) invites the general public and other Federal agencies to comment on an information collection requirement concerning the Application—Alternative Inspection Services including the SENTRI Application (CBP Form 823S) and the FAST Commercial Driver Application (CBP Form 823F). This request for comment is being made pursuant to the Paperwork Reduction Act of 1995 (Pub. L. 104-13; 44 U.S.C. 3506(c)(2)(A)).

DATES: Written comments should be received on or before September 7, 2010, to be assured of consideration.

ADDRESSES: Direct all written comments to U.S. Customs and Border Protection, Attn.: Tracey Denning, U.S. Customs and Border Protection, Office of Regulations and Rulings, 799 9th Street, NW., 7th Floor, Washington, DC 20229-1177.

FOR FURTHER INFORMATION CONTACT: Requests for additional information should be directed to U.S. Customs and Border Protection, Attn.: Tracey Denning, U.S. Customs and Border Protection, Office of Regulations and Rulings, 799 9th Street, NW., 7th Floor, Washington, DC 20229-1177, at 202-325-0265.

SUPPLEMENTARY INFORMATION: CBP invites the general public and other Federal agencies to comment on proposed and/or continuing information collections pursuant to the Paperwork Reduction Act of 1995 (Pub. L.104-13; 44 U.S.C. 3506(c)(2)(A)). The comments should address the accuracy of the burden estimates and ways to minimize the burden including the use of automated collection techniques or the use of other forms of information technology, as well as other relevant aspects of the information collection. The comments that are submitted will be summarized and included in the CBP request for Office of Management and Budget (OMB) approval. All comments will become a matter of public record. In this document CBP is soliciting comments concerning the following information collection:

Title: Application—Alternative Inspection Services including the SENTRI Application and the FAST Commercial Driver Application.

OMB Number: 1651-0121.

Form Numbers: 823S (SENTRI) and 823F (FAST).

Abstract: This collection of information is to implement CBP's Trusted Traveler Programs, including the Secure Electronic Network for Travelers Rapid Inspection (SENTRI), which allows expedited entry at specified southwest land border ports of entry, and the Free and Secure Trade program (FAST), which provides expedited border processing for known, low-risk commercial drivers. The purpose of the Trusted Traveler programs is to provide prescreened travelers expedited entry into the United States. The benefit to the traveler is less time spent in line waiting to be processed by CBP. The Trusted Traveler programs are provided for in 8 CFR 235.7. Applicants may apply for these programs using paper forms available at http://www.cbp.gov or through the Global On-line Enrollment System (GOES) at https://goes-app.cbp.dhs.gov.

Current Actions: This submission is being made to revise the burden hours as a result of revised estimates for Forms 823S and 823F.

Type of Review: Extension with a change to the burden hours.

Affected Public: Businesses, Individuals.

SENTRI (Form 823S):

Estimated Number of Respondents: 63,415.

Estimated Number of Total Annual Responses: 63,415.

Estimated Time per Response: 40 minutes.

Estimated Total Annual Burden Hours: 42,488.

Estimated Costs: $1,585,375.

FAST (Form 823F):

Estimated Number of Respondents: 28,910.

Estimated Number of Total Annual Responses: 28,910.

Estimated Time per Response: 40 minutes.

Estimated Total Annual Burden Hours: 19,370.

Estimated Costs: $1,445,500.

Dated: June 30, 2010.
Tracey Denning,
Agency Clearance Officer, U.S. Customs and Border Protection.

[FR Doc. 2010-16314 Filed 7-2-10; 8:45 am]

BILLING CODE 9111-14-P